ENVIRONMENTAL PROTECTION AGENCY

[ER-FRL-9017-6]

Environmental Impact Statements; Notice of Availability

Responsible Agency: Office of Federal Activities, General Information (202) 564-7146 or http://www.epa.gov/compliance/nepa/.

Weekly Receipt of Environmental Impact Statements

Filed 10/13/2014 Through 10/17/2014

Pursuant to 40 CFR 1506.9.

Notice:

Section 309(a) of the Clean Air Act requires that EPA make public its comments on EISs issued by other Federal agencies. EPA's comment letters on EISs are available at: http://www.epa.gov/compliance/nepa/eisdata.html.

EIS No. 20140305, Draft EIS, FHWA, UT, 1800 North (SR-37) Transportation Improvements, Comment Period Ends: 12/08/2014, Contact: Paul Ziman 801-955-3525.

EIS No. 20140306, Draft EIS, USACE, CA, River Islands at Lathrop, Phase 2B, Comment Period Ends: 12/08/2014, Contact: William Guthrie 916-557-5269.

EIS No. 20140307, Final EIS, FHWA, NY, Interstate 87 (I-87) Exit 4 Access Improvements, Review Period Ends: 11/24/2014, Contact: Jonathan McDade 518-431-4127.

EIS No. 20140308, Third Draft Supplement, USN, HI, Surveillance Towed Array Sensor System Low Frequency Active (SURTASS LFA) Sonar Systems, Comment Period Ends: 12/08/2014, Contact: CDR C. V. Morgan 703-695-8266.

EIS No. 20140309, Draft EIS, NOAA, WA, Harvest Specifications and Management Measures for 2015-2016 and Biennial Periods Thereafter (Pacific Coast Groundfish Fishery Management Plan), Comment Period Ends: 12/08/2014, Contact: Becky Renko 206-526-6110.

Dated: October 21, 2014.
Dawn Roberts,
Management Analyst, NEPA Compliance Division, Office of Federal Activities.

[FR Doc. 2014-25355 Filed 10-23-14; 8:45 am]

BILLING CODE 6560-50-P